DEPARTMENT OF TRANSPORTATION

Surface Transportation Board

[STB Finance Docket No. 34222]

Fraser N.H. LLC—Acquisition Exemption—Rail Lines of Berlin Mills Railway, Inc.

Fraser N.H. LLC (Fraser), a noncarrier, has filed a verified notice of exemption under 49 CFR 1150.31 to acquire from Berlin Mills Railway, Inc. (Berlin Mills), approximately: (1) 5.5 miles of rail line between milepost 154.6 at Berlin, NH, and milepost 149.1 at Gorham, NH; and (2) 0.5 miles of rail line in the vicinity of Berlin, a total distance of approximately 6.0 miles in Coos County, NH.¹

¹ Fraser recently acquired various assets of American Tissue, Inc. (ATI), as part of a sale within ATI's bankruptcy proceeding, including the railroad lines and other assets of Berlin Mills, a subsidiary of ATI. Fraser filed this exemption once it became aware of the need for Board approval. St. Lawrence & Atlantic Railroad Company (SLR) operates over the lines pursuant to a lease and operation exemption. See St. Lawrence & Atlantic Railroad Company—Lease and Operation Exemption—Berlin Mills Railway, Inc., STB Finance Docket No. 33485 (STB served Oct. 24, 1997). According to Fraser, SLR will continue to operate over the lines under a lease agreement to be entered into with Fraser, whereupon SLR will file a petition for exemption under 49 U.S.C. 10502 for the lease transaction.

Fraser certifies that its projected annual revenues as a result of this transaction will not exceed those that would qualify it as a Class III rail carrier, and that such revenues will not exceed $5 million annually.

The effective date of the exemption was July 10, 2002 (7 days after the exemption was filed).

If the notice contains false or misleading information, the exemption is void ab initio. Petitions to revoke the exemption under 49 U.S.C. 10502(d) may be filed at any time. The filing of a petition to revoke will not automatically stay the transaction.

An original and 10 copies of all pleadings, referring to STB Finance Docket No. 34222, must be filed with the Surface Transportation Board, 1925 K Street, NW., Washington, DC 20423-0001. In addition, a copy of each pleading must be served on Amy S. Koch, Cameron McKenna LLP, 2175 K Street, NW., 5th Floor, Washington, DC 20037.

Board decisions and notices are available on our Web site at “www.stb.dot.gov.”

Decided: July 16, 2002.
By the Board, David M. Konschnik, Director, Office of Proceedings.
Vernon A. Williams,
Secretary.

[FR Doc. 02-18439 Filed 7-25-02; 8:45 am]

BILLING CODE 4915-00-P